POSTAL SERVICE

Change in Rates and Classes of General Applicability for Competitive Products

AGENCY: Postal Service.

ACTION: Notice of a change in rates of general applicability for a competitive product.

SUMMARY: This notice sets forth changes in rates of general applicability for a competitive product.

DATES: Effective date: March 20, 2014.

FOR FURTHER INFORMATION CONTACT: Daniel J. Foucheaux, Jr., 202-268-2989.

SUPPLEMENTARY INFORMATION: On February 12, 2014, pursuant to their authority under 39 U.S.C. 3632, the Governors of the Postal Service established prices and classification changes for a competitive product. The Governors' Decision and the record of proceedings in connection with such decision are reprinted below in accordance with section 3632(b)(2).

Stanley F. Mires,
Attorney, Legal Policy & Legislative Advice.

BILLING CODE P

[FR Doc. 2014-03664 Filed 2-18-14; 11:15 am]

BILLING CODE C